DEPARTMENT OF DEFENSE

Department of the Army; Corps of Engineers

Intent to Prepare an Environmental Impact Statement for a Proposed Dredged Material Management Plan for Lorain Harbor, OH

Correction

In notice document 07-1007 beginning on page 9934 in the issue of Tuesday, March 6, 2007, make the following correction:

On page 9934, in the third column, on the 21st line, “2914” should read “2014”.

[FR Doc. C7-1007 Filed 3-9-07; 8:45 am]

BILLING CODE 1505-01-D

DEPARTMENT OF TRANSPORTATION

49 CFR Part 37

[Docket OST-2006-26035]

RIN 2105-AC86

Transportation for Individuals With Disabilities; Adoption of New Accessibility Standards

Correction

In rule document E6-16680 beginning on page 63263 in the issue of Monday, October 30, 2006, make the following correction:

§ 37.9 [Corrected]

On page 63265, in the second column, in § 37.9(c)(1), in the fifth and sixth lines, “[insert effective date of this amendment]” should read “November 29, 2006”.

[FR Doc. Z6-16680 Filed 3-9-07; 8:45 am]

BILLING CODE 1505-01-D

DEPARTMENT OF TRANSPORTATION

Federal Highway Administration

23 CFR Parts 450 and 500

Federal Transit Administration

49 CFR Part 613

[Docket No. FHWA-2005-22986]

RIN 2125-AF09; FTA RIN 2132-AA82

Statewide Transportation Planning; Metropolitan Transportation Planning

Correction

In rule document 07-493 beginning on page 7224 in the issue of Wednesday, February 14, 2007 make the following correction:

§ 450.324 [Corrected]

On page 7278, in the first column, in § 450.324(h), in the ninth and tenth lines, “[Insert date 270 days after effective date]” should read “December 11, 2007”.

[FR Doc. C7-493 Filed 3-9-07; 8:45 am]

BILLING CODE 1505-01-D